COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List services to be furnished by nonprofit agencies employing persons who are blind or have other severe disabilities, and deletes from the Procurement List products and service previously furnished by such agencies.

DATES: Effective Date: November 12, 2006.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On August 18, 2006, the Committee for Purchase From People Who Are Blind or Severely Disabled published notice (71 FR 47773) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Full Food Service, Fort Drum, 45 West Street, Fort Drum, NY.

NPA: Jefferson County Chapter, NYSARC, Watertown, NY.

Contracting Activity Officer: Department of Army Contracting Agency, Fort Drum, NY.

Service Type/Location: Custodial Services, Port Isabel Detention Center, 27991 Buena Vista Road, Los Fresnos, Texas.

NPA: Mavagi Enterprises, Inc., San Antonio, Texas.

Contracting Activity: DHS Immigration and Customs Enforcement, Dallas, Texas.

Deletions

On August 18, 2006, the Committee for Purchase From People Who Are Blind or Severely Disabled published notice (70 FR 47773) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Pad, Floor Polishing Machine

7910-00-985-6800

7910-00-985-6851

7910-00-985-6853

7910-00-985-6855

7910-00-985-6856

7910-00-985-6857

7910-00-985-6858

7910-00-985-6859

7910-00-985-6860

7910-00-985-6861

7910-00-985-6862

7910-00-985-6863

7910-00-985-6864

7910-00-985-6866

7910-00-985-6868

7910-00-985-6869

7910-00-985-6870

7910-00-985-6871

7910-00-985-6872

7910-00-985-6873

7910-00-985-6874

7910-00-985-6875

7910-00-985-6876

NPA: Beacon Lighthouse, Inc., Wichita Falls, Texas Contracting Activity: GSA, Southwest Supply Center, Fort Worth, Texas

Floor Scrubbing Machine Pad

7910-00-NIB-0021—Lime, 19in. diam., High Speed

7910-00-NIB-0022—Lime, 21in. diam., High Speed

7910-00-NIB-0023—Dark Green, 22in. diam., High Speed

NPA: Beacon Lighthouse, Inc., Wichita Falls, Texas.

Contracting Activity: GSA, Southwest Supply Center, Fort Worth, Texas.

Service

Service Type/Location: Janitorial/Custodial, Military Traffic Management Command, 1312th Medium Port Command, Compton, California.

NPA: None currently authorized.

Contracting Activity: Department of the Army.

Sheryl D. Kennerly,
Director, Information Management.

[FR Doc. E6-17029 Filed 10-12-06; 8:45 am]

BILLING CODE 6353-01-P